DEPARTMENT OF COMMERCE

National Oceanic and Atmospheric Administration

50 CFR Part 622

[Docket No. 140501394-5011-01]

RIN 0648-BE20

Fisheries of the Caribbean, Gulf of Mexico, and South Atlantic; Snapper-Grouper Fishery Off the Southern Atlantic States; Amendment 32

AGENCY: National Marine Fisheries Service (NMFS), National Oceanic and Atmospheric Administration (NOAA), Commerce.

ACTION: Proposed rule; request for comments.

SUMMARY: NMFS proposes regulations to implement Amendment 32 to the Fishery Management Plan for the Snapper-Grouper Fishery of the South Atlantic Region (FMP), as prepared by the South Atlantic Fishery Management Council (Council). If implemented, this rule would remove blueline tilefish from the deep-water complex; establish blueline tilefish commercial and recreational sector annual catch limits (ACLs) and accountability measures (AMs); revise the deep-water complex ACLs and AMs; establish a blueline tilefish commercial trip limit; and revise the blueline tilefish recreational bag limit. The purpose of this rule is to specify ACLs and AMs for blueline tilefish to end overfishing of the stock and maintain catch levels consistent with achieving optimum yield (OY) for the blueline tilefish resource.

DATES: Written comments must be received on or before February 23, 2015.

ADDRESSES: You may submit comments on the proposed rule identified by “NOAA-NMFS-2014-0145” by any of the following methods:

• Electronic Submission: Submit all electronic public comments via the Federal e-Rulemaking Portal. Go to www.regulations.gov/#!docketDetail;D=NOAA-NMFS-2014-0145, click the “Comment Now!” icon, complete the required fields, and enter or attach your comments.

• Mail: Submit written comments to Rick DeVictor, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendment 32, which includes an environmental assessment, an initial regulatory flexibility analysis (IRFA), and a regulatory impact review, may be obtained from the Southeast Regional Office Web site at http://sero.nmfs.noaa.gov/sustainable_fisheries/s_atl/sg/2014/am32/index.html.

FOR FURTHER INFORMATION CONTACT: Rick DeVictor, telephone: 727-824-5305, or email: rick.devictor@noaa.gov.

SUPPLEMENTARY INFORMATION: The blueline tilefish is in the snapper-grouper fishery of the South Atlantic, and the fishery is managed under the FMP. The FMP was prepared by the Council and is implemented through regulations at 50 CFR part 622 under the authority of the Magnuson-Stevens Fishery Conservation and Management Act (Magnuson-Stevens Act).

Background

A benchmark assessment for the blueline tilefish stock in the South Atlantic was conducted through the Southeast, Data, Assessment, and Review (SEDAR) process in 2013 (SEDAR 32). At its October 2013 meeting, the Council's Scientific and Statistical Committee (SSC) determined the 2013 stock assessment was based on the best scientific information available and considered the assessment to be appropriate for management decisions. The assessment determined that the blueline tilefish stock is undergoing overfishing in the South Atlantic. As required by the Magnuson-Stevens Act, the Council must therefore implement measures to end overfishing within 2 years of notification of an overfishing status. NMFS notified the Council of the blueline tilefish stock status on December 6, 2013.

The Magnuson-Stevens Act requires that ACLs and AMs be implemented to prevent overfishing and achieve the OY from a fishery. An ACL is the level of annual catch of a stock that, if exceeded, triggers AMs. AMs are management controls to prevent ACLs from being exceeded and to correct any overages of ACLs if they occur. Two examples of AMs include an in-season closure if landings reach or are projected to reach the ACL, and a post-season overage adjustment which would reduce the ACL if an overage occurred during the previous fishing year.

NMFS published an emergency rule on April 17, 2014 (79 FR 21636), that implemented temporary measures to reduce overfishing of blueline tilefish while Amendment 32 was being developed. Those measures were extended through a temporary rule on October 14, 2014 (79 FR 61262, October 10, 2014), and are effective through April 18, 2015, while Amendment 32 and the associated rulemaking are under review. The temporary measures of the emergency action include the following: Removal of blueline tilefish from the deep-water complex, specification of sector ACLs and AMs for blueline tilefish, and revision to the deep-water complex ACL to reflect the removal of blueline tilefish from the complex.

Management Measures Contained in This Proposed Rule

Removal of Blueline Tilefish From the Deep-Water Complex

This proposed rule would remove blueline tilefish from the deep-water complex. In 2012, the Comprehensive ACL Amendment established a deep-water complex that contained the following eight species: blueline tilefish, yellowedge grouper, silk snapper, misty grouper, queen snapper, sand tilefish, black snapper, and blackfin snapper (77 FR 15916, March 16, 2012). The Comprehensive ACL Amendment also specified ACLs and AMs for the complex where the complex's ACLs were based upon an acceptable biological catch (ABC) recommendation provided by the Council's SSC. In the absence of stock assessments, the ABCs for these and other unassessed species in the Comprehensive ACL Amendment were based on median or average catch. The Council placed most unassessed snapper-grouper species into complexes because many unassessed snapper-grouper species are data-limited stocks that are known to have issues with species identification and/or extreme fluctuations in relative landings through time due to rarity, or lack of targeted fishing effort.

As a result of blueline tilefish being assessed through SEDAR 32 and the Council's SSC providing an assessment-based ABC recommendation for blueline tilefish, the Council decided to remove blueline tilefish from the deep-water complex and establish individual ACLs and AMs for the blueline tilefish stock. The Council has determined that sufficient information is now available for blueline tilefish and the rationale for grouping the species with other data-limited species in the deep-water complex no longer applies.

Blueline Tilefish Commercial and Recreational ACLs and AMs

This proposed rule would implement individual blueline tilefish commercial and recreational sector ACLs (based on the revised ABC for blueline tilefish specified in Amendment 32) to end overfishing of the stock. In Amendment 32, the Council defines the blueline tilefish stock ACL equal to 98 percent of the ABC. Due to improved data reporting, the Council has consistently chosen to set ACL equal to ABC for snapper-grouper species. However, for blueline tilefish in Amendment 32, the Council decided to set the stock ACL at 98 percent of the proposed ABC to account for landings that occur north of the Council's area of jurisdiction. Approximately 2 percent of the total blueline tilefish harvested were landed north of the North Carolina/Virginia border. Therefore, this rule would establish blueline tilefish stock ACLs (combined commercial and recreational ACLs, equivalent to a total ACL), of 35,632 lb (16,162 kg) for 2015, 53,457 lb (24,248 kg) for 2016, 71,469 lb (32,418 kg) for 2017, and 87,974 lb (39,904 kg) for 2018, and subsequent fishing years. All ACL weights are expressed in round weight. Additionally, this rule would establish sector-specific ACLs for the blueline tilefish commercial and recreational sectors based upon the Council's previously established blueline tilefish allocations of 50.07 percent and 49.93 percent for the commercial and recreational sectors, respectively. The commercial ACLs would be 17,841 lb (8,093 kg) for 2015, 26,766 lb (12,141 kg) for 2016, 35,785 lb (16,232 kg) for 2017, and 44,048 lb (19,980 kg) for 2018, and subsequent fishing years. The recreational ACLs would be 17,791 lb (8,070 kg) for 2015, 26,691 lb (12,107 kg) for 2016, 35,685 lb (16,186 kg) for 2017, and 43,925 lb (19,924 kg) for 2018, and subsequent fishing years.

This rule would implement commercial and recreational in-season AMs for blueline tilefish. If commercial or recreational landings for blueline tilefish reach or are projected to reach the applicable ACL, then the commercial or recreational sector, as applicable, would be closed for the remainder of the fishing year. The recreational sector would not have an in-season closure if the Regional Administrator (RA) determines, using the best scientific information available, that a closure would be unnecessary.

Additionally, if the total ACLs are exceeded in a fishing year, then during the following fishing year the commercial and recreational sectors will not have an increase in their respective sector ACLs.

This rule would also implement post-season ACL overage adjustments (paybacks) for blueline tilefish. For the commercial sector, if commercial landings exceed the commercial ACL, and the combined commercial and recreational ACL (stock ACL) is exceeded, and blueline tilefish are overfished, then during the following fishing year the commercial ACL would be reduced for that following year by the amount of the commercial ACL overage in the prior fishing year. For the recreational sector, if recreational landings for blueline tilefish exceed the applicable recreational ACL, and the combined commercial and recreational ACL (stock ACL) is exceeded, and blueline tilefish are overfished, then the recreational fishing season in the following fishing year would be reduced to ensure recreational landings do not exceed the recreational ACL the following fishing year. Additionally, the recreational ACL would be reduced by the amount of the recreational ACL overage from the prior fishing year. However, the recreational fishing season and recreational ACL would not be reduced if the RA determines, using the best scientific information available that no reduction is necessary.

Additional Blueline Tilefish Management Measures

This rule would implement a commercial trip limit and revise the recreational bag limit for blueline tilefish. This rule would establish a commercial trip limit of 100 lb (45 kg), gutted weight; 112 lb (51 kg), round weight. The trip limit is expected to slow the rate of harvest, potentially lengthening the commercial season during a fishing year, and reduce the risk of the commercial ACL from being exceeded.

For the recreational bag limit, blueline tilefish are currently part of the aggregate grouper and tilefish bag limit of 3 fish per person per day. This proposed rule would revise the blueline tilefish bag limit within the aggregate to set a specific blueline tilefish bag limit of one per vessel per day for the months of May through August. There would be no retention of blueline tilefish by the recreational sector from January through April and from September through December each year. A bag limit of one blueline tilefish per vessel per day and an 8-month annual closure was determined to best meet address ending overfishing, reducing recreational harvest, and potentially reducing blueline tilefish discards if blueline tilefish are targeted less during the open season because of the lower bag limit. The Council determined that the shortened summer seasonal opening could provide increased stability for planning purposes to recreational fishermen as it could minimize the risk of an in-season closure and the recreational ACL being exceeded, which may require post-season AMs in the following fishing year. In addition, the Council determined that an opening during the summer months could increase safety at sea by allowing fishing to occur in the generally calmer summer weather compared to a January 1 season opening during the winter. The vessel limit and fishing season dates for the blueline tilefish recreational sector would match what is being proposed by the Council for snowy grouper through Regulatory Amendment 20 to the FMP. The Council determined that similar recreational management measures and fishing seasons would be beneficial to the fish stocks as both species are caught at the same depths and have similar high release mortality rates.

Deep-Water Complex Commercial and Recreational ACLs and AMs

This proposed rule would revise the ACLs and AMs for the deep-water complex (composed of yellowedge grouper, silk snapper, misty grouper, queen snapper, sand tilefish, black snapper, and blackfin snapper). The ACLs are being revised for two reasons. First, as Amendment 32 proposes to remove blueline tilefish from the deep-water complex, this proposed rule would remove the current blueline tilefish portion from the complex total ACL. The permanent blueline tilefish portion of the complex ACL is 631,341 lb (286,371 kg), round weight, and the total deep-water complex ACL is 711,025 lb (322,516 kg), round weight. The emergency rule set both a new, separate blueline tilefish ACL of 224,100 lb (101,650 kg), round weight and a revised deep-water complex ACL without blueline tilefish of 79,684 lb (36,144 kg), round weight. Second, through Amendment 29 to the FMP, which is currently in rulemaking, the Council is proposing a revision to the ABC control rule for data-poor species based on recommendations from the SSC. If Amendment 29 is approved and implemented, the portion of the deep-water complex ABC for silk snapper and yellowedge grouper would change. The Council submitted Amendment 29 to the Secretary of Commerce on October 14, 2014, the notice of availability for the amendment was published in the Federal Register on November 24, 2014 (79 FR 69819), and the proposed rule published in the Federal Register on December 8, 2014 (79 FR 72567).

Therefore, this proposed rule would change the deep-water complex total ACL (both sectors without blueline tilefish but with the increased catch levels for silk snapper and yellowedge grouper resulting from Amendment 29), to 170,278 lb (77,237 kg), round weight. Additionally, this proposed rule would establish sector specific ACLs for the deep-water complex based on the allocations for species in the deep-water complex that were established in the Comprehensive ACL Amendment (77 FR 15916, March 16, 2012). The commercial ACL for the complex would be 131,634 lb (59,708 kg), round weight and the recreational ACL for the complex would be 38,644 lb (17,529 kg), round weight.

This proposed rule would revise the AMs for the deep-water complex. This proposed rule would retain the current commercial in-season AM, revise the commercial post-season AM, and implement revised recreational AMs for the deep-water complex. If commercial or recreational landings for the deep-water complex reach or are projected to reach their applicable ACL, then the commercial or recreational sector, as applicable, would be closed for the remainder of the fishing year. The recreational sector would not have an in-season closure if the RA determined, using the best scientific information available, that a closure was unnecessary. The Council decided that the in-season AM for both sectors is necessary to reduce the risk that landings exceed the ACL.

This proposed rule would also modify the post-season ACL overage adjustments for the deep-water complex. Currently, if deep-water complex commercial landings exceed the ACL and at least one species in the complex is overfished, the commercial ACL is reduced in the following year by the overage amount. This proposed rule would modify the commercial post-season AMs as follows: If commercial landings exceed the commercial ACL, and the combined commercial and recreational ACL (total ACL) is exceeded, and at least one species in the deep-water complex is overfished, then during the following fishing year the complex commercial ACL would be reduced for that following year by the amount of the complex's commercial ACL overage in the prior fishing year.

Currently, if recreational landings for the deep-water complex exceed the recreational ACL, then during the following fishing year, recreational landings will be monitored for a persistence in increased landings and, if necessary, the length of the following recreational fishing season will be reduced by the amount necessary to ensure recreational landings do not exceed the recreational ACL in the following fishing year. This proposed rule would modify the recreational post-season AMs as follows: For the recreational sector, if recreational landings for the deep-water complex exceed the applicable recreational ACL, and the combined commercial and recreational ACL is exceeded, and at least one species in the complex is overfished, then length of the recreational fishing season in the following fishing year would be reduced to ensure recreational landings do not exceed the recreational ACL the following fishing year. Additionally, the recreational ACL would be reduced by the amount of the recreational ACL overage from the prior fishing year. However, the recreational fishing season and recreational ACL would not be reduced if the RA determined, using the best scientific information available, that no reduction is necessary.

Additional Measures Contained in Amendment 32

Amendment 32 also contains actions that would not be specified in the regulations. Amendment 32 revises the definitions of management thresholds for South Atlantic blueline tilefish, including maximum sustainable yield (MSY), OY, and ABC, and establishes recreational annual catch targets (ACTs) for blueline tilefish and revises the ACTs for the deep-water complex.

Definitions of MSY and OY were established for blueline tilefish in Amendment 11 to the FMP (64 FR 59126, November 2, 1999). Amendment 32 would revise these definitions based upon the most recent scientific information contained in SEDAR 32. Amendment 32 would specify the MSY value for blueline tilefish and set the OY equal to the ACL. Amendment 32 would also establish recreational ACTs for blueline tilefish and revise the ACTs for the deep-water complex. The deep-water complex ACTs are being revised to reflect the removal of blueline tilefish from the complex and the change in the deep-water complex ABC as described above. These ACTs are management reference points to track performance of the management measures but do not trigger AMs.

Classification

Pursuant to section 304(b)(1)(A) of the Magnuson-Stevens Act, the NMFS Assistant Administrator has determined that this proposed rule is consistent with Amendment 32, the FMP, the Magnuson-Stevens Act and other applicable law, subject to further consideration after public comment.

This proposed rule has been determined to be not significant for purposes of Executive Order 12866.

NMFS prepared a supplemental IRFA for this rule, as required by section 603 of the Regulatory Flexibility Act, 5 U.S.C. 603. The IRFA describes the economic impact that this proposed rule, if implemented, would have on small entities. A description of the action, why it is being considered, and the objectives of and legal basis for this action are contained in the preamble. A copy of the full analysis is available from the NMFS (see ADDRESSES). A summary of the supplemental IRFA follows.

Every commercial fishing vessel in the South Atlantic snapper-grouper fishery must have either a valid Federal South Atlantic unlimited snapper-grouper permit or a trip-limited permit. Both permits are limited access permits, and a vessel with a trip-limited permit is limited to no more than 225 lb (102.1 kg) round weight (whole weight), per trip. As of November 5, 2014, there were 539 vessels with a valid unlimited permit and 111 vessels with a valid trip-limited permit. An estimated annual average of 277 vessels landed deep-water complex species from 2008 through 2012. From that, it is estimated that up to 277 commercial fishing vessels and up to 277 commercial fishing businesses would be directly affected by the proposed rule.

According to Small Business Act Size Standards, a business in the finfish fishing industry is small if its annual receipts are less than $20.5 million. Based on estimates of average annual dockside revenue per vessel, it is concluded that a substantial number of the directly affected commercial fishing businesses are small businesses.

The proposed changes to management measures would directly apply to businesses in the finfish fishing industry (NAICS 114111) that harvest blueline tilefish and other species of the deep-water complex of the South Atlantic snapper-grouper fishery. Proposed changes in this rule would also directly apply to anglers; however, anglers, whether aboard for-hire fishing or private and leased vessels, are not considered small entities as that term is defined in 5 U.S.C. 601(6) and so therefore are not further discussed in this summary.

The proposed increase of the commercial ACL for the deep-water complex beyond its temporary value could have a beneficial economic impact by as much as an additional $244,116 to $338,690 (2012 dollars) annually in dockside revenue. The average annual economic benefit per vessel is estimated to be from $1,596 to $2,214 (2012 dollars).

The proposed commercial ACL and AMs for blueline tilefish are expected to reduce average annual commercial landings of blueline tilefish from 2015 through 2019 by as much as 142,300 to 323,426 lb (64,546 to 146,704 kg) round weight, and dockside revenue by as much as $576,330 to $679,195 (2012 dollars). That change represents an approximate 89 percent to 91 percent reduction of average annual dockside revenue from blueline tilefish landings over that time. The average annual loss per vessel is estimated to range from $4,648 to $5,477 (2012 dollars), which represents approximately 6 percent to 7 percent of average annual receipts of these vessels.

From 2008 through 2012, the average trip landed 525 lb (238.1 kg) gutted weight, of blueline tilefish, and an annual average of 124 commercial vessels had blueline tilefish landings. Without the proposed trip limit, the current average landings of 525 lb (238.1 kg), gutted weight, per trip would reach the proposed commercial ACL of 17,841 lb (8,092.5 kg) round weight, or 15,929 lb (7,225.3 kg), gutted weight, in 2015, by 30 trips and an estimated 94 vessels and up to 94 small businesses would have no blueline tilefish landings in 2015, as a result of AMs being triggered and the commercial season being closed. The proposed 100-lb (45.4-kg), gutted weight, trip limit would increase the number of trips necessary to reach the commercial ACL to 1,593, which would improve the likelihood that all of the estimated 124 vessels and small businesses, especially the smallest of those businesses, would have some blueline tilefish commercial landings during the year.

The 100-lb (45.4-kg) trip limit would reduce average blueline tilefish landings per trip by 425 lb (192.8 kg) gutted weight, and $897 (2012 dollars), which is an 81 percent reduction in landings (by weight and value) per trip with blueline tilefish landings. That reduction of average blueline tilefish landings per trip represents a loss of approximately 28 percent of average dockside revenue per trip.

The average of 525 lb (238.1 kg), gutted weight, per trip is not representative of all vessels in the snapper-grouper fishery. Vessels with a trip-limited permit cannot presently land more than 201 lb (91.2 kg), gutted-weight, of blueline tilefish per trip. The small businesses with trip-limited permits would lose no more than $222 (2012 dollars) in dockside revenue per trip. Hence, the 100 lb (45.4-kg), gutted weight, trip limit would represent at most a 51 percent reduction in landings (by weight and value) per trip for those vessels with a trip-limited permit.

The proposed 100 lb (45.4 kg), gutted weight, trip limit would increase trip-related costs. Specifically, it would prevent larger vessels from experiencing traditional economies of scale. Consequently, it is expected that small businesses with vessels that have unlimited poundage permits would incur larger increases in average unit costs per pound of blueline tilefish landed than those with vessels that have 225 lb (102.1 kg), round weight, trip limit permits.

Commercial ACLs for the deep-water complex less than the proposed 131,634 lb (59,708 kg), round weight, were considered but not adopted by the Council. A lesser commercial ACL would result in either a smaller beneficial economic impact than the preferred alternative or an adverse economic impact.

A lesser commercial ACL for blueline tilefish was considered but not adopted and it, when combined with the in-season AM, would generate larger adverse economic impacts on small businesses. Other considered but not adopted alternatives would establish a higher commercial ACL than the preferred alternative for blueline tilefish, which would have smaller adverse economic impacts in the short run, but potentially larger adverse economic impacts in the long run.

Among the considered but not adopted alternatives were higher commercial trip limits, which would have smaller adverse economic impacts on small businesses per trip. However, the higher trip limits would shorten the length of the open commercial season, reduce the number of small businesses that have landings of blueline tilefish during the year, and increase the likelihood that the smallest of the small businesses would have zero blueline tilefish landings during the year.

List of Subjects in 50 CFR Part 622

Blueline tilefish, deep-water complex, Fisheries, Fishing, South Atlantic, Snapper-Grouper.

Dated: January 14, 2015.
Samuel D. Rauch III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.183, paragraph (b)(7) is added to read as follows:

§ 622.183 Area and seasonal closures.

* * * * *

(b) * * *

(7) Blueline tilefish recreational sector closure. The recreational sector for blueline tilefish in or from the South Atlantic EEZ is closed from January 1 through April 30, and September 1 through December 31, each year. During a closure, the bag and possession limit for blueline tilefish in or from the South Atlantic EEZ is zero.

3. In § 622.187, paragraphs (b)(2)(iii) and (iv) are revised and paragraph (v) is added to read as follows:

§ 622.187 Bag and possession limits.

* * * * *

(b) * * *

(2) * * *

(iii) No more than one fish may be a golden tilefish;

(iv) No more than one fish per vessel may be a blueline tilefish; and

(v) No goliath grouper or Nassau grouper may be retained.

* * * * *

4. In § 622.191, paragraph (a)(10) is added to read as follows:

§ 622.191 Commercial trip limits.

* * * * *

(a) * * *

(10) Blueline tilefish. Until the applicable ACL specified in § 622.193(z)(1)(iii) is reached or projected to be reached, 100 lb (45 kg), gutted weight; 112 lb (51 kg), round weight. See § 622.193(z)(1)(i) for the limitations regarding blueline tilefish after the commercial ACL is reached.

* * * * *

5. In § 622.193, the suspension on paragraph (h) is lifted and paragraph (h) is revised, and paragraph (z) is added to read as follows:

§ 622.193 Annual catch limits (ACLs), annual catch targets (ACTs), and accountability measures (AMs).

* * * * *

(h) Deep-water complex (including yellowedge grouper, silk snapper, misty grouper, queen snapper, sand tilefish, black snapper, and blackfin snapper)—(1) Commercial sector—(i) If commercial landings for the deep-water complex, as estimated by the SRD, reach or are projected to reach the commercial ACL of 131,634 lb (59,708 kg), round weight, the AA will file a notification with the Office of the Federal Register to close the commercial sector for the remainder of the fishing year. On and after the effective date of such a notification, all sale or purchase of deep-water complex species is prohibited and harvest or possession of these species in or from the South Atlantic EEZ is limited to the bag and possession limit. This bag and possession limit applies in the South Atlantic on board a vessel for which a valid Federal commercial or charter vessel/headboat permit for South Atlantic snapper-grouper has been issued, without regard to where such species were harvested, i.e., in state or Federal waters.

(ii) If commercial landings exceed the ACL, and the combined commercial and recreational ACL (total ACL) specified in paragraph (h)(3) of this section, is exceeded, and at least one of the species in the deep-water complex is overfished, based on the most recent Status of U.S. Fisheries Report to Congress, the AA will file a notification with the Office of the Federal Register, at or near the beginning of the following fishing year to reduce the commercial ACL for that following year by the amount of the commercial ACL overage in the prior fishing year.

(2) Recreational sector. (i) If recreational landings for the deep-water complex, as estimated by the SRD, are projected to reach the recreational ACL of 38,644 lb (17,529 kg), round weight, the AA will file a notification with the Office of the Federal Register to close the recreational sector for the remainder of the fishing year, unless the RA determines that no closure is necessary based on the best scientific information available. On and after the effective date of such a notification, the bag and possession limit is zero.

(ii) If recreational landings for the deep-water complex, exceed the applicable recreational ACL, and the combined commercial and recreational ACL (total ACL) specified in paragraph (h)(3) of this section is exceeded, and at least one of the species in the deep-water complex is overfished, based on the most recent Status of U.S. Fisheries Report to Congress, the AA will file a notification with the Office of the Federal Register, to reduce the length of the recreational fishing season in the following fishing year to ensure recreational landings do not exceed the recreational ACL the following fishing year. When NMFS reduces the length of the following recreational fishing season and closes the recreational sector, the following closure provisions apply: The bag and possession limits for the deep-water complex in or from the South Atlantic EEZ is zero. Additionally, the recreational ACL will be reduced by the amount of the recreational ACL overage in the prior fishing year. The fishing season and recreational ACL will not be reduced if the RA determines, using the best scientific information available that no reduction is necessary.

(3) The combined commercial and recreational sector ACL (total ACL) is 170,278 lb (77,237 kg), round weight.

* * * * *

(z) Blueline tilefish—(1) Commercial sector. (i) If commercial landings for blueline tilefish, as estimated by the SRD, reach or are projected to reach the applicable ACL in paragraph (z)(1)(iii) of this section, the AA will file a notification with the Office of the Federal Register to close the commercial sector for the remainder of the fishing year. On and after the effective date of such a notification, all sale or purchase of blueline tilefish is prohibited and harvest or possession of this species in or from the South Atlantic EEZ is limited to the bag and possession limit. This bag and possession limit applies in the South Atlantic on board a vessel for which a valid Federal commercial or charter vessel/headboat permit for South Atlantic snapper-grouper has been issued, without regard to where such species were harvested, i.e., in state or Federal waters.

(ii) If commercial landings exceed the ACL, and the combined commercial and recreational ACL (total ACL) specified in paragraph (z)(3) of this section is exceeded, and blueline tilefish are overfished, based on the most recent Status of U.S. Fisheries Report to Congress, the AA will file a notification with the Office of the Federal Register, at or near the beginning of the following fishing year to reduce the commercial ACL for that following year by the amount of the commercial ACL overage in the prior fishing year.

(iii) The applicable commercial ACLs, in round weight, are 17,841 lb (8,093 kg) for 2015, 26,766 lb (12,141 kg) for 2016, 35,785 lb (16,232 kg) for 2017, and 44,048 lb (19,980 kg) for 2018 and subsequent fishing years. The commercial ACL will not increase automatically in a subsequent fishing year if landings exceed or are projected to exceed the total ACL in the prior fishing year, as specified in paragraph (z)(3) of this section.

(2) Recreational sector. (i) If recreational landings for blueline tilefish, as estimated by the SRD, are projected to reach the applicable ACL in paragraph (z)(2)(iii) of this section, the AA will file a notification with the Office of the Federal Register to close the recreational sector for the remainder of the fishing year, unless the RA determines that no closure is necessary based on the best scientific information available. On and after the effective date of such a notification, the bag and possession limit is zero.

(ii) If recreational landings for blueline tilefish, exceed the applicable recreational ACL, and the combined commercial and recreational ACL (total ACL) specified in paragraph (z)(3) of this section, is exceeded, and blueline tilefish is overfished, based on the most recent Status of U.S. Fisheries Report to Congress, the AA will file a notification with the Office of the Federal Register, to reduce the length of the recreational fishing season in the following fishing year to ensure recreational landings do not exceed the recreational ACL the following fishing year. When NMFS reduces the length of the following recreational fishing season and closes the recreational sector, the following closure provisions apply: the bag and possession limit for blueline tilefish in or from the South Atlantic EEZ is zero. Additionally, the recreational ACL will be reduced by the amount of the recreational ACL overage in the prior fishing year. The fishing season and recreational ACL will not be reduced if the RA determines, using the best scientific information available that no reduction is necessary.

(iii) The applicable recreational ACLs, in round weight, are 17,791 lb (8,070 kg) for 2015, 26,691 lb (12,107 kg) for 2016, 35,685 lb (16,186 kg) for 2017, and 43,925 lb (19,924 kg) for 2018 and subsequent fishing years. The recreational ACL will not increase automatically in a subsequent fishing year if landings exceed or are projected to exceed the total ACL in the prior fishing year, as specified in paragraph (z)(3) of this section.

(3) Without regard to overfished status, if the combined commercial and recreational ACL (total ACL), as estimated by the SRD, is exceeded in a fishing year, then during the following fishing year, an automatic increase will not be applied to the commercial and recreational ACLs. The RA will evaluate the landings data, using the best scientific information available, to determine whether or not an increase in the commercial and recreational ACLs will be applied. The applicable combined commercial and recreational sector ACLs (total ACLs), in round weight are 35,632 lb (16,162 kg) for 2015, 53,457 lb (24,248 kg) for 2016, 71,469 lb (32,418 kg) for 2017, and 87,974 lb (39,904 kg) for 2018 and subsequent fishing years.

[FR Doc. 2015-00880 Filed 1-21-15; 8:45 am]

BILLING CODE 3510-22-P